DEPARTMENT OF THE TREASURY

Community Development Financial Institutions Fund

Open Meeting of the Community Development Advisory Board

AGENCY: Community Development Financial Institutions Fund, U.S. Department of the Treasury.

ACTION: Notice of open meeting.

SUMMARY: This notice announces the next meeting of the Community Development Advisory Board (the “Advisory Board”), which provides advice to the Director of the Community Development Financial Institutions Fund (CDFI Fund).

DATES: The next meeting of the Advisory Board will be held from 9:00 a.m. to 3:30 p.m. Eastern Time on Wednesday, February 27, 2013.

ADDRESSES: The Advisory Board meeting will be held in the Cash Room at the U.S. Department of the Treasury located at 1500 Pennsylvania Avenue NW, Washington, DC 20005.

FOR FURTHER INFORMATION CONTACT: The CDFI Fund, Office of Legislative and External Affairs, 1500 Pennsylvania Avenue NW, Washington, DC 20220, (202) 653-0322 (this is not a toll free number). Other information regarding the CDFI Fund and its programs may be obtained through the CDFI Fund's Web site at http://www.cdfifund.gov. Public participation will be limited to 50 individuals. Notification of intent to attend the meeting must be made via email to advisoryboard@cdfi.treas.gov. The CDFI Fund will send confirmation of attendance to the first 50 individuals who submit notifications of intent.

SUPPLEMENTARY INFORMATION: Section 104(d) of the Community Development Banking and Financial Institutions Act of 1994 (12 U.S.C. 4703(d)) established the Advisory Board. The charter for the Advisory Board has been filed in accordance with the Federal Advisory Committee Act, as amended (5 U.S.C. App.), and with the approval of the Secretary of the Treasury.

The function of the Advisory Board is to advise the Director of the CDFI Fund (who has been delegated the authority to administer the CDFI Fund) on the policies regarding the activities of the CDFI Fund. The Advisory Board does not advise the CDFI Fund on approving or declining any particular application for monetary or non-monetary awards. The Advisory Board shall meet at least annually.

It has been determined that this document is not a major rule as defined in Executive Order 12291 and therefore regulatory impact analysis is not required. In addition, this document does not constitute a rule subject to the Regulatory Flexibility Act (5 U.S.C. Chapter 6).

The next meeting of the Advisory Board, all of which will be open to the public, will be held in the Cash Room at the U.S. Department of the Treasury located at 1500 Pennsylvania Avenue NW, Washington, DC 20005, from 9:00 a.m. to 3:30 p.m. Eastern Time on Wednesday, February 27, 2013. The room will accommodate up to 50 members of the public. Seats are available to members of the public on a first-come, first-served basis.

Because the meeting will be held in a secured federal building, members of the public who desire to attend the meeting must contact the CDFI Fund's Office of Legislative and External Affairs by 5:00 p.m. Eastern Time on Wednesday, February 20, 2013, by email at AdvisoryBoard@cdfi.treas.gov, to inform the CDFI Fund of your desire to attend the meeting and to provide the following information which is required to facilitate your entry to the facility: name as it appears on a government issued identification; date of birth; and social security number.

Participation in the discussions at the meeting will be limited to Advisory Board members, Department of the Treasury staff, and certain invited guests. Anyone who would like to have the Advisory Board consider a written statement must submit it to the CDFI Fund's Office of Legislative and External Affairs by 5:00 p.m. Eastern Time on Wednesday, February 20, 2013, by mail to 1500 Pennsylvania Avenue NW, Washington, DC 20220, or by email at AdvisoryBoard@cdfi.treas.gov.

The Advisory Board meeting will include a report from the Director on the activities of the CDFI Fund since the last Advisory Board meeting, as well as policy, programmatic, fiscal and legislative initiatives for the fiscal years 2012 and 2013.

Authority: 12 U.S.C. 4703; Chapter X, Pub. L. 104-19, 109 Stat. 237.

Dated: February 6, 2013.
Donna J. Gambrell,
Director, Community Development Financial Institutions Fund.

[FR Doc. 2013-03192 Filed 2-11-13; 8:45 am]

BILLING CODE 4810-70-P